DEPARTMENT OF DEFENSE

Department of the Navy

Notice of Intent To Prepare a Supplemental Environmental Impact Statement for Land-Water Interface and Service Pier Extension at Naval Base Kitsap Bangor, Washington

AGENCY: Department of the Navy, DoD.

ACTION: Notice.

SUMMARY: Pursuant to section (102)(2)(c) of the National Environmental Policy Act (NEPA) of 1969, and the regulations implemented by the Council on Environmental Quality (40 Code of Federal Regulations (CFR) parts 1500-1508), the Department of the Navy (DoN) announces its intent to prepare a Supplemental Environmental Impact Statement (EIS) to the July 2016 Final EIS for Land-Water Interface (LWI) and Service Pier Extension (SPE), Naval Base (NAVBASE) Kitsap Bangor, Washington. The Final EIS for LWI and SPE resulted in a Record of Decision (ROD) that was signed on September 8, 2016 for the LWI project only.

The SPE proposed action is to extend the existing Service Pier and construct associated support facilities. The purpose is to provide additional berthing capacity and improve associated support facilities for existing homeported and visiting submarines at NAVBASE Kitsap Bangor. The SPE project is needed to provide alternative opportunities for berthing to mitigate restrictions at NAVBASE Kitsap Bremerton, Washington, on navigating SEAWOLF Class submarines through Rich Passage under certain tidal conditions and to improve long-term operational effectiveness for the three SEAWOLF Class submarines on NAVBASE Kitsap.

The Supplemental EIS will address the SPE project only and will evaluate resources based upon changes in design and new information relevant to environmental concerns per 40 CFR 1502.9. The DoN will evaluate this new, relevant information and incorporate that information into revised analyses where appropriate. The analysis will address, among others, changes to the Alternative 2 design and new regulatory guidance and requirements.

FOR FURTHER INFORMATION CONTACT: Naval Facilities Engineering Command Northwest, 1101 Tautog Circle, Silverdale, Washington 98315-1101, Attn: Ms. Kimberly Kler, LWI/SPE Supplemental EIS Project Manager, 360-396-0927, or project Web site: http://www.nbkies/lwi.com.

SUPPLEMENTARY INFORMATION: The DoN announced its intent to prepare an EIS for the LWI and SPE in the Federal Register on February 1, 2013 (78 FR 7416), and invited the public to comment on the scope of the EIS. A Draft EIS was released on February 13, 2015 (80 FR 8081), in which the potential environmental effects associated with construction and operation of the LWI and SPE were evaluated. A Final EIS was released on July 15, 2016 (81 FR 46077), addressing comments received on the Draft EIS. The Navy issued a ROD on only the LWI portion of the proposed action on September 14, 2016 (81 FR 63173), deferring a decision on the SPE.

A Notice of Availability of the Draft Supplemental EIS will be published in the Federal Register when ready for public review and the document will be available for a 45 day public comment period. A Final Supplemental EIS will then be prepared to address comments received on the Draft Supplemental EIS. No decision will be made to implement the proposed action until the EIS process is completed and a ROD is signed by the DoN.

Authority: 35 U.S.C. 207, 37 CFR part 404.

Dated: February 23, 2017.
A.M. Nichols,
Lieutenant Commander, Judge Advocate General's Corps, U.S. Navy, Federal Register Liaison Officer.

[FR Doc. 2017-04750 Filed 3-10-17; 8:45 am]

BILLING CODE 3810-FF-P